NUCLEAR REGULATORY COMMISSION

[Docket No.: 50-133; NRC-2016-0091]

Humboldt Bay Power Plant Unit 3 License Termination Plan, Pacific Gas & Electric Company

AGENCY: Nuclear Regulatory Commission.

ACTION: Environmental assessment and finding of no significant impact; issuance.

SUMMARY: The U.S. Nuclear Regulatory Commission (NRC) is issuing an environmental assessment (EA) and a finding of no significant impact (FONSI) for a license amendment request submitted by Pacific Gas and Electric Company (PG&E or licensee) related to its shutdown Humboldt Bay Power Plant (HBPP) Unit 3 License Termination Plan (LTP).

DATES: The EA and FONSI referenced in this document are available on May 3, 2016.

ADDRESSES: Please refer to Docket ID NRC-2016-0091 when contacting the NRC about the availability of information regarding this document. You may obtain publicly-available information related to this document using any of the following methods:

• Federal Rulemaking Web site: Go to http://www.regulations.gov and search for Docket ID NRC-2016-0091. Address questions about NRC dockets to Carol Gallagher; telephone: 301-415-3463; email: Carol.Gallagher@nrc.gov. For technical questions, contact the individual listed in the FOR FURTHER INFORMATION CONTACT section of this document.

• NRC's Agencywide Documents Access and Management System (ADAMS): You may obtain publicly-available documents online in the ADAMS Public Documents collection at: http://www.nrc.gov/reading-rm/adams.html. To begin the search, select “ADAMS Public Documents” and then select “Begin Web-based ADAMS Search.” For problems with ADAMS, please contact the NRC's Public Document Room (PDR) reference staff at: 1-800-397-4209, 301-415-4737, or by email to pdr.resource@nrc.gov. The ADAMS accession number for each document referenced (if it is available in ADAMS) is provided the first time that it is mentioned in this document.

• NRC's PDR: You may examine and purchase copies of public documents at the NRC's PDR, Room O1-F21, One White Flint North, 11555 Rockville Pike, Rockville, Maryland 20852.

FOR FURTHER INFORMATION CONTACT: Alan Bjornsen, Office of Nuclear Materials Safety and Safeguards, U.S. Nuclear Regulatory Commission, Washington DC 20555-0001; telephone: 301-415-6925; email: Alan.Bjornsen@nrc.gov.

SUPPLEMENTARY INFORMATION:

I. Introduction

In accordance with section 50.90 of title 10 of the Code of Federal Regulations (10 CFR), and 10 CFR 50.82(a)(9), PG&E submitted a request to the NRC dated May 3, 2013 (ADAMS Accession Nos. ML13130A008 and ML13130A009, respectively) to amend its nuclear power plant operating license (DPR-7) for HBPP Unit 3 which is located near Eureka, California. The license amendment request proposed to add license conditions that incorporate the LTP and establish the criteria for determining when changes to the LTP require NRC approval. The NRC performed a safety and environmental review for this license amendment request. This EA documents the staff's environmental review and its compliance with Section 102(2) of the National Environmental Policy Act of 1969, as amended (NEPA).

II. Environmental Assessment Summary

Under the requirements of §§ 51.21 and 51.30(a), the NRC staff developed an EA (ADAMS Accession No. ML16106A054) to evaluate the proposed action to amend PG&E's operating license for HBPP Unit 3 to include the LTP. The LTP provides the basis for the NRC to ensure that the licensee has adequate funds available to complete decommissioning. In addition, the LTP enables the NRC to ensure that the licensee is using the proper radiation release criteria and to determine the adequacy of the licensee's final site survey. Upon PG&E demonstrating that it has reduced the residual radioactivity at HBPP Unit 3 to levels permitting its release for unrestricted use (in accordance with the NRC's regulation, 10 CFR 20.1402), as demonstrated by the final site survey, the NRC will terminate PG&E's license. The NRC, in the EA, considered a no-action alternative in which the NRC would not approve the LTP, therefore preventing the termination of the HBPP Unit 3 operating license. The no-action alternative would keep the PG&E operating license in effect, and the site would not be available for another use. As a result, the no-action alternative was not evaluated further in the EA. The NRC evaluated the potential impacts to threatened and endangered species, environmental justice, and offsite land use for waste disposal. The NRC determined that approval of the LTP for HBPP Unit 3 would not result in a significant impact to the human environment.

The NRC staff consulted with a number of Federal, State and local agencies, and other parties regarding the potential environmental impacts of the proposed action. These consultations were intended to afford these agencies and parties the opportunity to comment on the proposed action, and to ensure that the requirements of Section 102(2) of NEPA, Section 106 of the National Historic Preservation Act, Section 7 of the Endangered Species Act, and Section 305 of the Magnuson-Stevens Fishery Conservation and Management Act were met. Regarding these laws, the NRC staff requested input from the Army Corps of Engineers and consulted with the U.S. Fish and Wildlife Service, the National Marine Fisheries Service, the California Office of Historic Preservation, the California Native American Heritage Commission, the California Office of Native American Affairs, three Federally-recognized Native American Tribes (the Wiyot Tribe, the Bear River Band of Rohnerville Rancheria, and the Blue Lake Rancheria), and the City of Eureka. The NRC staff used the information provided during the consultations to inform the EA.

The NRC provided a draft copy of the EA to the California State Department of Health for review on March 9, 2016 (ADAMS Accession No. ML14169A392) and did not receive any comments.

III. Finding of No Significant Impact

The NRC staff prepared an EA in support of the proposed action. The EA is available at ADAMS Accession No. ML16106A054. The NRC staff concluded that the proposed action to amend PG&E's license for HBPP Unit 3 to include the LTP will not significantly impact the quality of the human environment, and that the proposed action is the preferred alternative. Therefore, the NRC finds that there are no significant environmental impacts from the proposed action, and that preparation of an environmental impact statement is not warranted. Accordingly, the NRC has determined that a FONSI is appropriate. The FONSI incorporates the EA by reference.

Dated at Rockville, Maryland, this 26th day of April 2016.
For the Nuclear Regulatory Commission.
Craig G. Erlanger,
Acting Director, Division of Fuel Cycle Safety, Safeguards, and Environmental Review Office of Nuclear Materials Safety and Safeguards.

[FR Doc. 2016-10321 Filed 5-2-16; 8:45 am]

BILLING CODE 7590-01-P